FEDERAL COMMUNICATIONS COMMISSION

47 CFR Part 73

[DA 10-1061; MB Docket No. 10-117; RM-11601]

FM TABLE OF ALLOTMENTS, GRANTS PASS, OREGON

AGENCY: Federal Communications Commission

ACTION: Proposed rule.

SUMMARY: This document sets forth a proposal to amend the FM Table of Allotments. The Commission requests comment on a petition filed by Three Rivers Broadcasting, LLC proposing the allotment of FM Channel 257A as the second commercial allotment at Grants Pass, Oregon. The channel can be allotted at Grants Pass in compliance with the Commission's minimum distance separation requirements with a site restriction of 8.7 km (5.4 miles) west of Grants Pass, at 42-25-25 North Latitude and 123-26-25 West Longitude. See Supplementary Information infra.

DATES: The deadline for filing comments is August 26, 2010. Reply comments must be filed on or before September 10, 2010.

ADDRESSES: Federal Communications Commission, 445 12th Street, SW, Washington, DC 20554. In addition to filing comments with the FCC interested parties should serve the petitioner, as follows: Casey McIntosh, Three Rivers Broadcasting, LLC, 2970 Ravenwood Drive, Grants Pass, Oregon 97527

FOR FURTHER INFORMATION CONTACT: Deborah A. Dupont, Media Bureau, (202) 418-2180.

SUPPLEMENTARY INFORMATION: This is a synopsis of the Commission's Notice of Proposed Rule Making, MB Docket No. 10-117, adopted June 10, 2010, and released June 14, 2010. The full text of this Commission decision is available for inspection and copying during normal business hours in the FCC Reference Information Center (Room CY-A257), 445 12th Street, S.W., Washington, D.C. 20554.

The complete text of this decision may also be purchased from the Commission's copy contractor, Best Copy and Printing, Inc., 445 12th Street, SW, Room CY-B402, Washington, DC 20554, 800-378-3160 or via the company's website, http://www.bcpiweb.com.

This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 does not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334, 336.

§ 73.202 [Amended]

2. Section 73.202(b), the Table of FM Allotments under Oregon, is amended by adding Grants Pass, Channel 257A.

Federal Communications Commission.
John A. Karousos,
Assistant Chief,
Audio Division,
Media Bureau.

[FR Doc. 2010-18265 Filed 7-27-10; 8:45 am]

BILLING CODE 6712-01-S